FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 011550-020.

Agreement Name: ABC Discussion Agreement.

Parties: King Ocean Services Limited, Inc. and Seaboard Marine Ltd.

Filing Party: Wayne Rohde; Cozen O'Connor.

Synopsis: The amendment deletes Crowley Caribbean Services LLC as a party to the agreement.

Proposed Effective Date: 11/30/2020.

Location: https://www2.fmc.gov/FMC.Agreements.Web/Public/AgreementHistory/883.

Agreement No.: 201349-001.

Agreement Name: World Shipping Council Agreement.

Parties: COSCO SHIPPING Lines Co., Ltd., Orient Overseas Container Line Ltd., and OOCL (Europe) Limited (acting as a single party); CMA CGM S.A., APL Co. Pte. Ltd., American President Lines, LLC, and ANL Singapore Pte. Ltd. (acting as a single party); Crowley Caribbean Services LLC and Crowley Latin America Services, LLC (acting as a single party); Evergreen Marine Corporation (Taiwan) Ltd.; Hapag-Lloyd AG; HMM Company Limited; Independent Container Line, Ltd.; Kawasaki Kisen Kaisha Ltd.; Maersk A/S and Hamburg Sud (acting as a single party); MSC Mediterranean Shipping Company S.A.; Mitsui O.S.K. Lines Ltd.; Nippon Yusen Kaisha; Ocean Network Express Pte. Ltd.; Wallenius Wilhelmsen Ocean AS; Wan Hai Lines Ltd. and Wan Hai Lines (Singapore) Pte. Ltd. (acting as a single party); Yang Ming Marine Transport Corp.; Zim Integrated Shipping Services, Ltd.; and Matson Navigation Company, Inc.

Filing Party: Robert Magovern; Cozen O'Connor.

Synopsis: The Amendment adds Matson Navigation Company, Inc. as a party to the Agreement.

Proposed Effective Date: 1/15/2021.

Location: https://www2.fmc.gov/FMC.Agreements.Web/Public/AgreementHistory/34503.

Dated: December 4, 2020.
Rachel E. Dickon,
Secretary.

[FR Doc. 2020-27067 Filed 12-9-20; 8:45 am]

BILLING CODE 6730-02-P